CONSUMER PRODUCT SAFETY COMMISSION

16 CFR Part 1241

[Docket No. CPSC-2020-0023]

Safety Standard for Crib Mattresses

AGENCY: Consumer Product Safety Commission.

ACTION: Direct final rule.

SUMMARY: In 2022, the U.S. Consumer Product Safety Commission (CPSC) published a consumer product safety standard for crib mattresses under section 104 of the Consumer Product Safety Improvement Act of 2008 (CPSIA). The standard incorporated by reference ASTM F2933-21, Standard Consumer Safety Specification for Crib Mattresses, with modifications to make the standard more stringent. The CPSIA sets forth a process for updating mandatory standards for durable infant or toddler products that are based on a voluntary standard, when a voluntary standards organization revises the standard. Consistent with the CPSIA update process, this direct final rule updates the mandatory standard for crib mattresses to incorporate by reference ASTM's 2025 version of the voluntary standard, while maintaining certain modifications.

DATES: The rule is effective on May 3, 2026, unless the Commission receives a significant adverse comment by March 16, 2026. If the Commission receives such a comment, it will publish a document in the Federal Register, withdrawing this direct final rule before its effective date. The incorporation by reference of certain material listed in this rule is approved by the Director of the Federal Register as of May 3, 2026.

ADDRESSES: You can submit comments, identified by Docket No. CPSC-2020-0023, by any of the following methods:

Electronic Submissions: Submit electronic comments to the Federal eRulemaking Portal at: https://www.regulations.gov. Follow the instructions for submitting comments. CPSC typically does not accept comments submitted by electronic mail (email), except as described below. CPSC encourages you to submit electronic comments by using the Federal eRulemaking Portal.

Mail/Hand Delivery/Courier/Confidential Written Submissions: Submit comments by mail, hand delivery, or courier to: Office of the Secretary, Consumer Product Safety Commission, 4330 East-West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2020-0023, into the “Search” box, and follow the prompts.

FOR FURTHER INFORMATION CONTACT: Joseph Williams, Compliance Officer, U.S. Consumer Product Safety Commission, 4330 East-West Highway, Bethesda, MD 20814; telephone: (301) 504-7585; email: jfwilliams@cpsc.gov; or Daniel Taxier, Project Manager, U.S. Consumer Product Safety Commission, 5 Research Place, Rockville, MD 20850; telephone: (301) 987-2211; email: dtaxier@cpsc.gov.

SUPPLEMENTARY INFORMATION:

I. Background

A. Statutory Authority

Section 104(b)(1) of the CPSIA requires the Commission to assess the effectiveness of voluntary standards for durable infant or toddler products and adopt mandatory standards for these products. 15 U.S.C. 2056a(b)(1). The mandatory standard must be “substantially the same as” the voluntary standard, or it may be “more stringent than” the voluntary standard, if the Commission determines that more stringent requirements would further reduce the risk of injury associated with the product. Id.

Section 104(b)(4)(B) of the CPSIA specifies the process for updating the Commission's rules when a voluntary standards organization revises a standard that the Commission incorporated by reference under section 104(b)(1). First, the voluntary standards organization must notify the Commission of the revision. Once the Commission receives this notification, the Commission may reject or accept the revised standard. The Commission may reject the revised standard by notifying the voluntary standards organization, within 90 days of receiving notice of the revision, that it has determined that the revised standard does not improve the safety of the consumer product and that it is retaining the existing standard. If the Commission does not take this action to reject the revised standard, the revised voluntary standard will be considered a consumer product safety standard issued under section 9 of the Consumer Product Safety Act (15 U.S.C. 2058), effective 180 days after the Commission received notification of the revision or on a later date specified by the Commission in the Federal Register. 15 U.S.C. 2056a(b)(4)(B).

B. Safety Standard for Crib Mattresses

Under section 104(b)(1) of the CPSIA, the Commission adopted a mandatory rule for crib mattresses, codified in 16 CFR part 1241, “Safety Standard for Crib Mattresses.” The rule incorporated by reference ASTM F2933-21, Standard Consumer Safety Specification for Crib Mattresses, with modifications to make the standard more stringent. 87 FR 8640 (Feb. 15, 2022).¹ The modifications to ASTM F2933-21 addressed:

¹ In September 2021, ASTM published a revised version, ASTM F2933-21a. Because ASTM published this revision prior to CPSC's adoption of a mandatory crib mattress standard, the Commission did not evaluate this revision pursuant to the CPSIA.

(1) suffocation hazards associated with crib mattresses, due to overly soft mattresses, by adding a test for mattress firmness based on sections 6 and 8 of AS/NZS 8811.1:2013—Methods of testing infant products—Method 1: Sleep Surfaces—Test (AS/NZS 8811.1);

(2) entrapment hazards associated with full-size crib mattresses, due to poor mattress fit from compression by sheets, by measuring for corner gaps after installing a shrunken (by washing twice) cotton sheet;

(3) entrapment hazards associated with after-market, non-full-size crib mattresses, due to lack of dimensional requirements for rectangular-shaped products, by extending dimension and other requirements for after-market non-rectangular non-full-size crib mattresses to all after-market non-full-size crib mattresses;

(4) laceration hazards associated with coils and springs breaking and poking through mattresses, by adding a cyclic impact test for mattresses that use coils and springs;

(5) the risks of sudden infant death syndrome (SIDS) and suffocation related to infant positioning, soft bedding, and gap entrapment, by improving the labeling and instructional literature requirements to communicate risks better to consumers, and to clarify requirements for manufacturers and test labs; and

(6) the replacement of references to ASTM standards with references to the corresponding CPSC regulation which incorporates that standard by reference, to maintain consistency with CPSC regulations.

Since CPSC promulgated a final rule for crib mattresses in February 2022, staff continued to work with the ASTM F15.66 Crib Mattresses Subcommittee to address differences between the voluntary standard and the final rule. On October 1, 2025, ASTM approved and in October 2025, published a new version of the voluntary standard for crib mattresses, ASTM F2933-25. The revised voluntary standard includes performance requirements and test methods, as well as requirements for warning labels and instructions, to address hazards to infants. On November 4, 2025, ASTM notified CPSC of the newest revision to ASTM F2933. On December 3, 2025, the Commission provided notice in the Federal Register of the availability of the revised standard and sought comment on the effect of the revisions on the safety standard for crib mattresses. 90 FR 55701. CPSC received four comments.

Two comments were duplicative and out of scope. An anonymous commenter stated their support for CPSC to approve and support the revised voluntary standard. Another anonymous commenter expressed appreciation for CPSC's review of the voluntary standard. The commenter acknowledged that some revisions improve safety, however, the commenter emphasized the importance of confirming that the revisions reduce risks such as suffocation and entrapment in gaps. The commenter concluded by expressing support for ASTM F2933-25 as long as CPSC determines that it improves safety compared to the existing mandatory standard.

CPSC acknowledges support for the revised voluntary standard and agrees with the importance of confirming that the revisions to ASTM F2933-25 reduce risks such as suffocation and entrapment in gaps or otherwise improve the safety of crib mattresses. CPSC's assessment of ASTM F2933-25 is described below.

Based on staff's review of ASTM F2933-25 and the public comments received, the Commission will allow the revised voluntary standard to become a mandatory standard, with some retained modifications. Specifically, three modifications that address hazardous corner gaps, entrapment hazards for rigid-sided rectangular after-market products (i.e., non-full-size cribs), and references to requirements in ASTM standards, as required by other CPSC regulations, will be maintained in 16 CFR part 1241. Specifically, ASTM F406-24, Standard Consumer Safety Specification for Non-Full-Size Baby Cribs/Play Yards (codified at 16 CFR part 1220 for non-full-size baby cribs and at 16 CFR part 1221 for play yards) include performance requirements and test methods, as well as requirements for warning labels and instructions, to address hazards to children from non-full-size baby cribs and play yards. ASTM F2194-25, Standard Consumer Safety Specification for Bassinets and Cradles (codified at 16 CFR part 1218) include performance requirements and test methods, as well as requirements for warning labels and instructions, to address hazards to children from bassinets and cradles. ASTM F2933-25 does not address these hazards or include references to the relevant CPSC regulations.

Accordingly, by operation of law under section 104(b)(4)(B) of the CPSIA, ASTM F2933-25 will become a mandatory consumer product safety standard for crib mattresses, with some retained modifications, on May 3, 2026. 15 U.S.C. 2056a(b)(4)(B). This direct final rule updates 16 CFR part 1241 to incorporate by reference the revised voluntary standard, ASTM F2933-25, and retains modifications that maintain testing requirements for corner gaps, requirements for rectangular after-market non-full-size crib mattresses, and references to CPSC regulations.

II. Revisions to ASTM F2933

ASTM F2933-25 includes several additions and revisions to ASTM F2933-21, including new definitions, new performance requirements and test methods, clarifications to existing requirements, as well as editorial revisions that do not alter substantive requirements in the standard or impact safety. The Commission considers the revisions in ASTM F2933-25 to be an improvement to the safety of crib mattresses because the revised standard includes clarifications to the scope of the voluntary standard and enhancements to the performance and testing requirements to improve testing repeatability and reproducibility.

A. Scope and Definitions

ASTM F2933-25 clarifies in section 1.1 that after-market mattresses for certain bassinet accessories of play yards are in scope of the voluntary standard. ASTM F2933-21 included performance requirements for after-market play yard mattresses that are interchangeably used as a play yard mattress and as a bassinet mattress/pad, but the scope did not specify that such mattresses were addressed in the standard. The change to explicitly identify such mattresses for bassinet accessories of play yards as being in scope improves safety by helping users of the standard understand which products are subject to its requirements.

Additionally, in section 3, ASTM F2933-25 adds definitions for “conspicuous” and for “sleep surface” that align with terms that were added as a modification to ASTM F2933-21 in CPSC's mandatory safety standard for crib mattresses. As a result, the change does not reduce safety, and these terms will be removed from the modifications in 16 CFR part 1241.

B. Calibration and Standardization

ASTM F2933-21 required that products be placed in a room with an ambient temperature of 73 °F ± 9 °F for at least 8 hours prior to and during testing. ASTM F2933-25 adds a new requirement that the relative humidity shall be between 20 percent and 70 percent prior to and during testing.

The revisions to the voluntary standard in ASTM F2933-25 also lengthen the pre-conditioning from at least 8 hours, required in ASTM F2933-21, to at least 24 hours or the duration specified in the manufacturer's instructions, whichever is longer, for the mattress to fully inflate or recover to the intended size before testing.

These changes improve safety by reducing the chance of underinflated crib mattresses being tested and meeting the requirements, when such mattresses would otherwise fail to meet the requirements when fully inflated or recovered.

C. Performance and Testing Requirements

1. Mattress Firmness

ASTM F2933-25 adds a firmness requirement and test method based on the modification in CPSC's mandatory safety standard for crib mattresses with the following differences:

• The test fixture must use a bullseye level or two linear levels, instead of only one linear level. This helps ensure the test fixture is as flat as possible when determining whether a product meets the firmness requirement.

• A specification was added to require the combined weight of the bottom disk and the lower collar of the test fixture to be not less than 95 percent of the total weight, instead of specifying only the weight of the bottom disk and the total weight. This improves the precision of the test fixture.

• Specifications for the design and use of a rigid bar were added to achieve more consistent test results by flattening non-hazardous wrinkles or bulges in fabric in the test area.

• The test setup includes a clarification that the requirement to test mattresses sold independent of a product on a flat, rigid, horizontal support only applies to full-size crib mattresses, and not to after-market mattresses for play yards and non-full-size cribs. This helps ensure that crib mattresses are placed on the appropriate surface for testing.

• A step was added to flatten the test area before the fixture is placed. This helps to remove small amounts of loose fabric from the test area and improves testing repeatability and reproducibility.

• The outer 0.5 inches of the mattress were removed from the possible test area. This section is excluded from testing because many modern mattress designs are difficult to test repeatably close to the outer edge, and because the area does not accommodate more than half of a newborn's accessible face: the 0.5 inches accounts for a 3-inch bizygomatic diameter newborn head size,² half of which is 1.5 inches, minus a 1 inch allowable gap between the mattress and crib. Therefore, this change improves testing repeatability and reproducibility without reducing safety.

² Brandt, J.M., Allen, G.A., Haynes JL, Butler, M.G., “Normative Standards And Comparison Of Anthropometric Data Of White And Black Newborn Infants.” Dysmorphol Clin Genet. 1990; 4(4): pp. 121-137. PMID: 27695162; PMCID: PMC5042572.

In addition to these changes, the firmness test method was also rewritten with the intent of being more easily readable and understandable and includes several other minor clarifications. Overall, the new firmness test is more repeatable and reproducible, and therefore is an improvement in the safety of crib mattresses. As a result, the modification related to the firmness test requirement is being removed from 16 CFR part 1241. Instead, crib mattresses will be subject to the firmness test requirements included in ASTM F2933-25, incorporated by reference in 16 CFR part 1241.

2. Coil Springs

ASTM F2933-25 adds a requirement and test method for mattresses with coil springs to reduce the risk of lacerations caused by coil springs poking out of the mattress. This change is consistent with a modification made in the mandatory safety standard for crib mattresses, with one exception. ASTM F2933-25 allows repeating the test on a mattress which has previously been tested with the coil spring test. Repeating the test on a single mattress is more likely to cause a product to fail; therefore, because this is a more stringent test, it is an improvement to safety. As a result of this revision, the modification that added a requirement and test method for mattresses with coil springs will be removed from 16 CFR part 1241. Instead, crib mattresses will be subject to the coil spring test requirements included in ASTM F2933-25, incorporated by reference in 16 CFR part 1241.

3. Other Changes

ASTM F2933-25 removes section 5.1 from ASTM F2933-21, which required products to meet all other applicable mandatory statutes and regulations. This section was not necessary in the voluntary standard because compliance with all applicable mandatory statutes and regulations remains obligatory for all products; therefore, this change does not impact safety. Modifications to section 5 of ASTM F2933-25 have been renumbered in 16 CFR part 1241 to account for this change. In section 5.8.1.2, ASTM F2933-25 replaces the word “pad” with “mattress” when referring to requirements in ASTM F2194, Consumer Safety Specification for Bassinets and Cradles. This change is a terminology update and does not impact the safety of any requirements in ASTM F2933. 16 CFR part 1241 is also revised to reflect this change when referencing ASTM F2194 and 16 CFR part 1218, Safety Standard for Bassinets and Cradles.³

³ 16 CFR part 1218 incorporates by reference ASTM F2194-25, effective February 21, 2026. 90 FR 57691 (Dec. 12, 2025).

D. Warnings and Instructions

The warnings and instructions for ASTM F2933-25 have been updated to substantially align with modifications in the mandatory standard for crib mattresses, with some minor deviations that are not expected to reduce safety. This includes minor changes in wording or formatting that do not change the overall meaning, such as the following:

• In section 7.2, the word “mattress” is used in place of “product.”

• In section 7.5, the phrase “unless otherwise specified” is omitted from the phrase, “Each mattress shall have warning statements to address the following, at a minimum, unless otherwise specified.”

• In section 7.7, “shall include” is used instead of “shall have.”

The revised voluntary standard also provides visual examples of warning labels exhibiting stated requirements in section 7 (FIG. 9, FIG. 10, and FIG. 11). These figures are similar to those included in the modifications.

Accordingly, these revisions to the warnings and instructions do not reduce safety. As a result, CPSC's modifications to the marking and labeling and instructional literature requirements in 16 CFR part 1241 will be removed. Instead, crib mattresses will be subject to the warning and instruction requirements included in ASTM F2933-25, incorporated by reference in 16 CFR part 1241.

E. Other Revisions

ASTM F2933-25 also includes several minor additions and revisions that are editorial in nature, such as updates to section and figure numbers to reflect revised and new sections and figures and an updated Rationale section.⁴ These revisions do not impact safety because they do not alter any substantive requirements in the standard.

⁴ The Rationale section is an appendix to the voluntary standard that describes in further detail the reason several requirements were included.

F. Modifications to the Standard

ASTM F2933-25 does not address the following modifications in the mandatory safety standard for crib mattresses:

• The addition of a mattress compression test to further reduce the risk of injury associated with corner gap entrapment from compression of the mattress by a fitted sheet.

• Extended dimension and other requirements for after-market non-rectangular non-full-size crib mattresses to all after-market non-full-size crib mattresses.

• A reference to requirements in either 16 CFR part 1220, Safety Standard for Non-Full-Size Baby Cribs, or 16 CFR part 1221, Safety Standard for Play Yards, as appropriate, to ensure consistency with other mandatory requirements in addition to referring to requirements in ASTM F406, Consumer Safety Specification for Non-Full-Size Baby Cribs/Play Yards.

• A reference to requirements in 16 CFR part 1218, Safety Standard for Bassinets and Cradles, to ensure consistency with other mandatory requirements in addition to referring to requirements in ASTM F2194.

This direct final rule maintains these requirements as modifications to ASTM F2933-25, as excluding these requirements would be a reduction in safety.

III. Incorporation by Reference

Section 1241.2 of the direct final rule incorporates by reference ASTM F2933-25. The Office of the Federal Register (OFR) has regulations regarding incorporation by reference. 1 CFR part 51. Under these regulations, agencies must discuss, in the preamble to a final rule, ways in which the material the agency incorporates by reference is reasonably available to interested parties, and how interested parties can obtain the material. In addition, the preamble to the final rule must summarize the material. 1 CFR 51.5(b).

In accordance with the OFR regulations, section I. and II. of this preamble summarizes the major provisions of ASTM F2933-25 that the Commission incorporates by reference into 16 CFR part 1241. The standard is reasonably available to interested parties in several ways. Until the direct final rule takes effect, a read-only copies of ASTM F2933-25 and ASTM F2194-25 are available for viewing on ASTM's website at: https://www.astm.org/CPSC.htm. On February 21, 2026, a read-only copy of ASTM F2194-25 will be available for viewing on the ASTM website at: https://www.astm.org/READINGLIBRARY/. Once the rule takes effect, a read-only copy of ASTM F2933-25 will also be available for viewing on the ASTM website at: https://www.astm.org/READINGLIBRARY/. ASTM F406-24 is already available for viewing at this location. Additionally, interested parties can purchase all referenced ASTM standards from ASTM International, 100 Barr Harbor Drive, P.O. Box C700, West Conshohocken, PA 19428-2959 USA; phone: (610) 832-9585; www.astm.org. Finally, interested parties can schedule an appointment to inspect a copy of the standard at CPSC's Office of the Secretary, U.S. Consumer Product Safety Commission, 4330 East-West Highway, Bethesda, MD 20814, telephone: (301) 504-7479; email: cpsc-os@cpsc.gov.

IV. Certification

Section 14(a) of the Consumer Product Safety Act (CPSA; 15 U.S.C. 2051-2089) requires manufacturers, including importers, of products subject to a consumer product safety rule under the CPSA, or to a similar rule, ban, standard, or regulation under any other act enforced by the Commission, to certify that the products comply with all applicable CPSC requirements. 15 U.S.C. 2063(a). Such certification must be based on a test of each product, or on a reasonable testing program, or, for children's products, on tests of a sufficient number of samples by a third party conformity assessment body accredited by CPSC to test according to the applicable requirements. As noted, standards issued under section 104(b)(1)(B) of the CPSIA are “consumer product safety standards.” Thus, they are subject to the testing and certification requirements of section 14 of the CPSA.

Because crib mattresses are children's products, a CPSC-accepted third party conformity assessment body must test samples of the products. Products subject to part 1218 also must comply with all other applicable CPSC requirements, such as the lead content requirements in section 101 of the CPSIA; ⁵ the phthalates prohibitions in section 108 of the CPSIA ⁶ and 16 CFR part 1307; the tracking label requirements in section 14(a)(5) of the CPSA; ⁷ and the consumer registration form requirements in section 104(d) of the CPSIA.⁸ ASTM F2933-25 does not make any changes that would impact any of these existing requirements.

⁵ 15 U.S.C. 1278a.

⁶ 15 U.S.C. 2057c.

⁷ 15 U.S.C. 2063(a)(5).

⁸ 15 U.S.C. 2056a(d).

V. Notice of Requirements

In accordance with section 14(a)(3)(B)(iv) of the CPSA, the Commission previously published a notice of requirements (NOR) for accreditation of third party conformity assessment bodies (third party labs) for testing crib mattresses, and codified the requirement at 16 CFR 1112.15(b)(50). 87 FR 8640 (Feb. 15, 2022). The NOR provided the criteria and process for CPSC to accept accreditation of third party conformity assessment bodies for testing crib mattresses to 16 CFR part 1241. The NORs for all mandatory standards for durable infant or toddler products are listed in the Commission's rule, “Requirements Pertaining to Third Party Conformity Assessment Bodies,” codified in 16 CFR part 1112.

ASTM F2933-25 includes one new test fixture, a “rigid bar,” and adds specifications to the firmness test fixture currently used in 16 CFR part 1241. The rigid bar can be easily machined, and its use is simply integrated into the firmness test protocol. The added specifications to the firmness test fixture could cause test laboratories to modify or remake existing test fixtures to ensure they remain within specification, but the fixture's use is based on the existing test protocol. Accordingly, the revisions do not significantly change the way that third party conformity assessment bodies test these products for compliance with the safety standard for crib mattresses. Laboratories will begin testing to the new standard when ASTM F2933-25 goes into effect, and the existing accreditations that the Commission has accepted for testing to this standard will cover testing to the revised standard. Therefore, the Commission considers the existing CPSC-accepted laboratories for testing to ASTM F2933-21 to be capable of testing to ASTM F2933-25 as well. Accordingly, the existing NOR for this standard will remain in place, and CPSC-accepted third party conformity assessment bodies are expected to update the scope of the testing laboratories' accreditations to reflect the revised standard in the normal course of renewing their accreditations.

VI. Direct Final Rule Process

On December 3, 2025, the Commission provided notice in the Federal Register of the revision to the standard and requested comment on whether the revision improves the safety of crib mattresses covered by the standard. 90 FR 55701. CPSC received four comments. Now, the Commission is issuing this rule as a direct final rule. Although the Administrative Procedure Act (APA; 5 U.S.C. 551-559) generally requires agencies to provide notice of a rule and an opportunity for interested parties to comment on it, section 553 of the APA provides an exception when the agency “for good cause finds” that notice and comment are “impracticable, unnecessary, or contrary to the public interest.” Id. 553(b)(B). The Commission concludes that when it updates a reference to an ASTM standard that the Commission incorporated by reference under section 104(b) of the CPSIA, notice and comment are not necessary.

The purpose of this direct final rule is to update the reference in the Code of Federal Regulations (CFR) so that it reflects the version of the standard that takes effect by operation of law. This rule updates the reference in the CFR, but under the terms of the CPSIA, ASTM F2933-25 would take effect as the new CPSC standard for crib mattresses in the absence of any action by the Commission. Thus, public comments would not lead to substantive changes to the standard or to the effect of the revised standard as a consumer product safety rule under section 104(b) of the CPSIA. Under these circumstances, notice and comment are unnecessary.

In Recommendation 2024-6, the Administrative Conference of the United States (ACUS) endorses direct final rulemaking as an appropriate procedure to expedite rules that are unlikely to elicit any significant adverse comments. See 89 FR 106406 (Dec. 30, 2024). ACUS recommends that agencies use the direct final rule process when they act under the “unnecessary” prong of the good cause exemption in 5 U.S.C. 553(b)(B). 89 FR 106406, 106409. ACUS also explains that notice and comment may be “unnecessary” when the agency lacks discretion regarding the substance of the rule. Id. at 106408. As noted, this rule updates a reference in the CFR to reflect a change that occurs by operation of law. Consistent with the ACUS recommendation, the Commission is publishing this rule as a direct final rule, because CPSC does not expect any significant adverse comments.

Unless CPSC receives a significant adverse comment within 30 days of this notification, the rule will become effective on May 3, 2026. In accordance with ACUS's recommendation, the Commission considers a significant adverse comment to be one where the commenter explains why the rule would be inappropriate, “including challenges to the rule's underlying premise or approach,” or where the commenter explains why the rule would be ineffective or unacceptable without change. Id. at 106409. As noted, this rule updates a reference in the CFR to reflect a change that occurs by statute.

If the Commission receives a significant adverse comment, the Commission will withdraw this direct final rule. Depending on the comment and other circumstances, the Commission may then incorporate the adverse comment into a subsequent direct final rule or publish a notice of proposed rulemaking, providing an opportunity for public comment.

VII. Regulatory Flexibility Act

The Regulatory Flexibility Act (RFA; 5 U.S.C. 601-612) generally requires agencies to review proposed and final rules for their potential economic impact on small entities, including small businesses, and prepare regulatory flexibility analyses. 5 U.S.C. 603, 604. The RFA applies to any rule that is subject to notice and comment procedures under section 553 of the APA. Id. As discussed in section VI. of this preamble, the Commission has determined notice and comment are unnecessary for this rule. Therefore, the RFA does not apply. CPSC also notes the limited nature of this document, which updates the incorporation by reference to reflect the mandatory CPSC standard that takes effect under section 104 of the CPSIA by operation of law.

VIII. Paperwork Reduction Act

The current mandatory standard for crib mattresses includes requirements for marking, labeling, and instructional literature that constitute a “collection of information,” as defined in the Paperwork Reduction Act (PRA; 44 U.S.C. 3501-3521). The Commission took the steps required by the PRA for information collections when it promulgated 16 CFR part 1241, and the marking, labeling, and instructional literature for crib mattresses are currently approved under OMB Control Number 3041-0159. The revision does not affect the information collection requirements or approval related to the standard.

IX. Environmental Considerations

The Commission's regulations provide for a categorical exclusion from any requirement to prepare an environmental assessment or an environmental impact statement where they “have little or no potential for affecting the human environment.” 16 CFR 1021.5(c)(2). This rule falls within the categorical exclusion, so no environmental assessment or environmental impact statement is required.

X. Preemption

Section 26(a) of the CPSA provides that where a consumer product safety standard is in effect and applies to a product, no state or political subdivision of a state may either establish or continue in effect a requirement dealing with the same risk of injury unless the state requirement is identical to the Federal standard. 15 U.S.C. 2075(a). Section 26(c) of the CPSA also provides that states or political subdivisions of states may apply to CPSC for an exemption from this preemption under certain circumstances. Section 104(b) of the CPSIA deems rules issued under that provision “consumer product safety standards.” Therefore, once a rule issued under section 104 of the CPSIA takes effect, it will preempt in accordance with section 26(a) of the CPSA.

XI. Effective Date

Under the procedure set forth in section 104(b)(4)(B) of the CPSIA, when a voluntary standards organization revises a standard that the Commission adopted as a mandatory standard, the revision becomes the CPSC standard 180 days after notification to the Commission, unless the Commission determines that the revision does not improve the safety of the product, or the Commission sets a later date in the Federal Register. 15 U.S.C. 2056a(b)(4)(B). The Commission is taking neither of those actions with respect to the revised standard for crib mattresses. Therefore, ASTM F2933-25 automatically will take effect as the new mandatory standard, with some retained modifications, for crib mattresses on May 3, 2026, 180 days after the Commission received notice of the revision. As a direct final rule, unless the Commission receives a significant adverse comment within 30 days of this notice, the rule will become effective on May 3, 2026, and will apply to products manufactured after the rule's effective date.

XII. Congressional Review Act and Executive Order 12866

Pursuant to the Congressional Review Act (CRA) and Executive Order (E.O.) 12866, the Office of Management and Budget's Office of Information and Regulatory Affairs has determined that this rule does not qualify as a “major rule,” as defined in 5 U.S.C. 804(2), and is not a significant regulatory action as defined under section 2(f) of E.O. 12866. To comply with the CRA, CPSC will submit the required information to each House of Congress and the Comptroller General.

List of Subjects in 16 CFR Part 1241

Consumer protection, Imports, Incorporation by reference, Infants and children, Law enforcement, Safety.

For the reasons discussed in the preamble, the Commission amends 16 CFR chapter II as follows:

PART 1241—SAFETY STANDARD FOR CRIB MATTRESSES

1. The authority citation for part 1241 is revised to read as follows:

Authority: 15 U.S.C. 2056a.

2. Revise and republish § 1241.2 to read as follows:

§ 1241.2 Requirements for Crib Mattresses.

(a) Except as provided in paragraph (b) of this section, each crib mattress must comply with all applicable provisions of ASTM F2933-25 (incorporated by reference, see § 1241.3).

(b) Comply with ASTM F2933-25 with the following additions or exclusions:

(1) Instead of complying with section 5.6.1.1 of ASTM F2933-25, comply with the following:

(i) 5.6.1.1 Mattress Size—The dimensions of a full-size crib mattress shall measure at least 27 ¼ in. (690 mm) wide and 51 ⅝ in. (1310 mm) long. When the mattress with the test mattress sheet is placed against the perimeter and in the corner of the crib, the corner gap shall not exceed 3.15 in. (80.0 mm). Dimensions shall be tested in accordance with 6.2.

(ii) [Reserved]

(2) Instead of complying with section 5.6.2 through 5.6.2.2 of ASTM F2933-25, comply with the following:

(i) 5.6.2 Non-Full-Size Crib Mattresses—For the purposes of this section, the term product refers to a non-full-size crib.

(ii) 5.6.2.1 Mattress supplied with a non-full-size crib: Shall meet the applicable requirements of the following sections of ASTM F406 (incorporated by reference, see § 1241.3) when tested with the product with which it is supplied: Stability; Cord/Strap Length; Mattresses for Rigid sided products; and Crib Side Height. (See16 CFR part 1220 for the Safety Standard for Non-Full-Size Baby Cribs.)

(iii) 5.6.2.2 After-market mattresses for non-full-size cribs: Shall be treated as though the mattresses were “the mattress supplied with a non-full-size crib” and shall meet the applicable requirements of the following sections of ASTM F406 when tested to the equivalent interior dimension of the product for which it is intended to be used: Stability; Cord/Strap Length; Mattresses for Rigid sided products; and Crib Side Height. (See 16 CFR part 1220 for the Safety Standard for Non-Full-Size Baby Cribs.)

(iv) 5.6.2.3 The after-market mattress must be at least the same size as the original equipment mattress or larger and lay flat on the floor of the product, in contact with the product mattress support structure.

(v) 5.6.2.4 If the original equipment mattress includes a floor support structure, the after-market mattress must include a floor support structure that is at least as thick as the original equipment mattress floor support structure.

(vi) 5.6.2.5 If the original equipment mattress includes storage accommodations for the product instruction manual, the after-market mattress shall provide equivalent storage accommodations for the product instruction manual.

(3) Instead of complying with section 5.8 through 5.8.1.2 of ASTM F2933-25, comply with the following:

(i) 5.8 After-Market Mattress for Play Yard—For the purposes of this section, the term “product” refers to a play yard.

(ii) 5.8.1 For Mesh/Fabric Sided Play Yard Products.

(A) 5.8.1.1 The after-market mattress and product it is tested in shall meet the applicable requirements of the following sections of ASTM F406 when tested with each brand and model of product for which it is intended to replace the mattress: Stability; Cord/Strap Length; Mattress; Height of Sides; Floor Strength; Mattress Vertical Displacement. (See 16 CFR part 1221 for the Safety Standard for Play Yards.)

(B) 5.8.1.2 If the aftermarket mattress is intended to be used in the bassinet of a play yard with a bassinet attachment, the mattress shall also meet the applicable requirements of the following sections of ASTM F2194 (incorporated by reference, see § 1241.3) when tested with each brand and model for which it is intended to replace the mattress: Mattress Thickness for Fabric or Mesh Sided Products; Mattress dimensions; Side Height; Bassinets with Segmented Mattresses. This paragraph applies only to a play yard mattress that is interchangeably used as a play yard mattress and as a bassinet mattress/pad. (See 16 CFR part 1218 for the Safety Standard for Bassinets and Cradles.)

(4) Renumber section 6.2.2 of ASTM F2933-25 to section 6.2.3.

(5) Renumber section 6.2.2.1 of ASTM F2933-25 to section 6.2.3.1.

(6) Renumber section 6.2.2.2 of ASTM F2933-25 to section 6.2.3.2.

(7) Renumber section 6.2.2.3 of ASTM F2933-25 to section 6.2.3.3.

(8) Renumber section 6.2.2.4 of ASTM F2933-25 to section 6.2.3.4.

(9) Add the following paragraphs to section 6.2.3 of ASTM F2933-25:

(i) 6.2.3.5 The test mattress sheet shall be placed on the mattress such that each sheet edge is wrapped fully around and under the mattress.

(ii) 6.2.3.6 Repeat step 6.2.3.2. Then measure the shortest gap between the mattress and the projected crib corner after the dimensions of the mattress have been recorded. The projected crib corner is located 53 in. ± ⅛ in. (1346 mm ± 3.2 mm) from Wall C and 28 ⅝ in. ± ⅛ in. (727 mm ± 3.2 mm) from Wall D, as shown in Fig. 12. The mattress shall not be moved during measurement. This shall be the corner gap measurement.

(iii) 6.2.3.7 Rotate the mattress 180° such that the opposing corner is adjacent to Walls C and D, then repeat 6.2.3.6.

(10) Instead of complying with section 6.2.2 of ASTM F2933-25, comply with the following:

(i) 6.2.2 Test Equipment-Mattress Sheet. (A) 6.2.2.1 The mattress sheet shall be 100% cotton and fitted for the mattress to be tested.

(B) 6.2.2.2 The mattress sheet shall be washed in hot water (50 °C [122 °F] or higher) and dried a minimum of two times on the highest setting using household textile laundering units. This shall be the test mattress sheet.

(11) Add the following Figure to section 6 of ASTM F2933-25: Figure 12.

Figure 12. Projected Crib Corner and Corner Gap Measurement Location

3. Add § 1241.3 to read as follows:

§ 1241.3 Incorporation by reference.

Certain material is incorporated by reference into this part with the approval of the Director of the Federal Register in accordance with 5 U.S.C. 552(a) and 1 CFR part 51. All approved incorporation by reference (IBR) material is available for inspection at the U.S. Consumer Product Safety Commission and at the National Archives and Records Administration (NARA). Contact the U.S. Consumer Product Safety Commission at: Office of the Secretary, U.S. Consumer Product Safety Commission, 4330 East West Highway, Bethesda, MD 20814; telephone (301) 504-7479, email cpsc-os@cpsc.gov. For information on the availability of this material at NARA, visit www.archives.gov/federal-register/cfr/ibr-locations or email fr.inspection@nara.gov. The material may be obtained from ASTM International, 100 Bar Harbor Drive, P.O. Box 0700, West Conshohocken, PA 19428; phone (610) 832-9585; website: www.astm.org/READINGLIBRARY/:

(a) ASTM F406-24, Standard Consumer Safety Specification for Non-Full-Size Baby Cribs/Play Yards, approved August 1, 2024; into § 1241.2.

(b) ASTM F2194-25, Standard Consumer Safety Specification for Bassinets and Cradles, approved August 1, 2025; into § 1241.2.

(c) ASTM F2933-25, Standard Consumer Safety Specification for Crib Mattresses, approved October 1, 2025; into § 1241.2.

Alberta E. Mills,
Secretary, Consumer Product Safety Commission.

[FR Doc. 2026-02855 Filed 2-11-26; 8:45 am]

BILLING CODE 6355-01-P